DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “AHRQ Grants Reporting System (GRS).” In accordance with the Paperwork Reduction Act, 44 U.S.C. 3501-3520, AHRQ invites the public to comment on this proposed information collection.

This proposed information collection was previously published in the Federal Register on August 31st, 2010 and allowed 60 days for public comment. No comments were received. The purpose of this notice is to allow an additional 30 days for public comment.

DATES: Comments on this notice must be received by December 2, 2010.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

AHRQ Grants Reporting System (GRS)

AHRQ seeks to renew the Agency's Grants Reporting System (GRS), a systematic method for its grantees to report project progress and important preliminary findings for grants funded by the Agency. This system was first approved by OMB on November 10, 2004 (OMB Control Number 0935-0122). The system addressed the shortfalls in the previous reporting process and established a consistent and comprehensive grants reporting solution for AHRQ. The GRS provides a centralized repository of grants research progress and additional information that can be used to support initiatives within the Agency. This includes future research planning and support to administration activities such as performance monitoring, budgeting, knowledge transfer as well as strategic planning.

The overall intent of the GRS project is to establish and document a systematic process that provides grantees with the ability to submit critical information in a timely manner throughout the lifecycle of a grant. In addition, the GRS project includes an infrastructure that is scalable and flexible to support information exchange throughout the Agency.

The GRS is based on a review of the previous processes that supported the solicitation and submission of data associated with patient safety grants. Following this review, a recommended process was prepared and presented to AHRQ stakeholders. The project team developed an initial system that addresses the immediate needs of the stakeholder community.

The project team, in conjunction with the stakeholder community will establish follow-on activities which will expand the capabilities of the initial system to meet the longer term goals of the project as directed by the executive management team of the agency. The specific activities that were accomplished in the short term and those established for the longer term are outlined below.

Short-Term Objectives

The following initial objectives for the GRS project have been:

• Establish and document a systematic process which supports the voluntary reporting of project progress and important preliminary findings associated with patient safety research grants

• Collect, document, and prioritize the long-term objectives of the GRS

• Establish an infrastructure that satisfies the short-term objectives of the project and can be leveraged to meet the long-term objectives and anticipated expansion

• Establish an automated user-friendly resource that will be used by grantees, regardless of mechanism, for reporting to AHRQ

• Establish an automated user-friendly resource that will be utilized by Agency staff for preparing, distributing, and reviewing reporting requests to patient safety grantees

• Ensure that the necessary security requirements are established and implemented in order to maintain the intellectual property or publication rights of grantees

• Establish a solution that is consistent with the AHRQ enterprise architecture model and aligned with AHRQ systems development standards.

Long-Term Objectives

The AHRQ project team will continue to enhance the GRS to establish a single, common reporting system for research related activities by:

• Enhancing the initial system as necessary to accommodate features not addressed by the short-term solution.

• Modifying the short-term solution to address new requirements and refine existing functionality for use across the agency for other programs and mechanisms.

• Expanding the deployment of the system to accommodate additional grants programs and other agency information exchange mechanisms.

Method of Collection

Grantees are required to enter data related to the progress of their grant funded research quarterly through a secure online interface which requires a user id and password.

Estimated Annual Respondent Burden

Exhibit 1 shows the estimated annualized burden hours for the respondents. It will take grantees an estimated 10 minutes to enter the necessary data into the Grant Reporting System (GRS) and reporting will occur four times annually. The total annualized burden hours are estimated to be 333 hours.

Exhibit 2 shows the estimated annualized cost burden for the respondents. The total estimated cost burden for respondents is $11,159.

Exhibit 1—Estimated Annualized Burden Hours
Form name | Number of respondents | Number of responses per respondent | Hours per response | Total burden
Data entry into GRS | 500 | 4 | 10/60 | 333
Total | 500 | na | na | 333

Exhibit 2—Estimated Annualized Cost Burden
Form name | Number of respondents | Total burden hours | Average hourly wage rate * | Total cost burden
Data entry into GRS | 500 | 333 | $33.51 | $11,159
Total | 500 | 333 | na | 11,159
* Based upon the average wages for Healthcare Practitioner and Technical Occupations (29-0000), “National Compensation Survey: Occupational Wages in the United States, May 2009,” U.S. Department of Labor, Bureau of Labor Statistics.

Estimated Annual Costs to the Federal Government

The annual cost to the government is $100,000 for licensing, support and maintenance.

Request for Comments

In accordance with the above-cited Paperwork Reduction Act legislation, comments on AHRQs information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 19, 2010.
Carolyn M. Clancy,
Director.

[FR Doc. 2010-27571 Filed 11-1-10; 8:45 am]

BILLING CODE 4160-90-M